DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the following medical reports: CM-907, Report of Ventilatory Study; CM-2907, Report of Ventilatory Study; CM-933, Roentgenographic Interpretation; CM-933b, Roentgenographic Quality Rereading; CM-988, Medical History and Examination for Coal Mine Worker's Pneumoconiosis; and CM-1159, Report of Arterial Blood Gas Study.

DATES: Written comments must be submitted to the office listed in the addressee section below on or before December 31, 2001.

ADDRESSEE: Ms. Patricia A. Forkel, U.S. Department of Labor, 200 Constitution Ave., NW., Room S-3201, Washington, DC 20210, telephone (202) 693-0339 (this is not a toll-free number), fax (202) 693-1451, email: pforkel@fenix2.dol-esa.gov.

SUPPLEMENTARY INFORMATION:

Background

The Black Lung Benefits Act of 1977, as amended, 30 U.S.C. 901 et. seq., provides for the payment of benefits to coal miners who have contracted black lung disease as a result of coal mine employment, and their dependents and survivors. When a miner applies for benefits, the Division of Coal Mine Workers' Compensation (DCMWC) is required to schedule a series of diagnostic tests to help establish eligibility for black lung benefits. Each of the diagnostic tests has its own form setting forth the medical results. The forms are: CM-907, Report of Ventilatory Study; CM-2907, Report of Ventilatory Study; CM-933, Roentgenographic Interpretation Form; CM-933b, Roentgenographic Quality Rereading; CM-988, Medical History and Examination for Coal Mine Worker's Pneumoconiosis; and CM-1159, Report of Arterial Blood Gas Study.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility and clarity of the information to be collected; and

* Minimize the burden of the collection of information on those who are to respond, including through the use of appropriate automated, electronic, mechanical, or other technological collection techniques or other forms of information technology, e.g., permitting electronic submissions of responses.

III. Current Actions

The Department of Labor seeks the approval of the extension of this information collection in order to carry out its responsibility to determine eligibility for black lung benefits. The CM-2907 is a new form designed to apply to all claims filed after January 20, 2001.

Type of Review: Revision.

Agency: Employment Standards Administration.

Titles: Report of Ventilatory Study (CM-907); Report of Ventilatory Study (CM-2907); Roentgenographic Interpretation (CM-933); Roentgenographic Quality Reading (CM-933b); Medical History and Examination for Coal Mine Workers' Pneumoconiosis (CM-988); Report of Arterial Blood Gas Study (CM-1159).

OMB Number: 1215-0090.

Agency Numbers: CM-907, CM-2907, CM-933, CM-933b, CM-988, CM-1159.

Affected Public: Businesses or other for-profit; Not-for-profit institutions.

Frequency: On occasion.

Total Respondents: 26,000.

Total Annual responses: 26,000.

Estimated Total Burden Hours: 6,334.

Form | Respondents | Responses | Average minutes per response | Burden hours
CM-907 | 100 | 100 | 20 | 33
CM-2907 | 4,900 | 4,900 | 20 | 1,634
CM-933 | 6,000 | 6,000 | 5 | 500
CM-933b | 5,000 | 5,000 | 5 | 417
CM-988 | 5,000 | 5,000 | 30 | 2,500
CM-1159 | 5,000 | 5,000 | 15 | 1,250

Total Burden Cost (capital/startup): $0.

Total Burden Cost (operating/maintenance): $0.

Comments submitted in response to this notice will be summarized and/or included in the request for Office of Management and Budget approval of the information collection request; they will also become a matter of public record.

Dated: October 19, 2001.
Margaret J. Sherrill,
Chief, Branch of Management Review and Internal Control, Division of Financial Management, Office of Management, Administration and Planning, Employment Standards Administration.

[FR Doc. 01-27449 Filed 10-31-01; 8:45 am]

BILLING CODE 4510-CK-P